DEPARTMENT OF STATE

[Public Notice 4639]

Meeting of Advisory Committee on International Communications and Information Policy

SUMMARY: The State Department Advisory Committee on International Communications and Information Policy (ACICIP) will meet on March 18, 2004, from 10 a.m. to 12 noon in Room 1105 of the State Department's Harry S. Truman Building. The meeting is open to the public, subject to the conditions noted below. Those wishing to attend should contact John Finn at 202-647-5306 or by e-mail at finnjw@state.gov.

The purpose of the Advisory Committee on International Communications and Information Policy is to provide information and advice to the State Department for the development of policies relating to international telecommunications, information technology, and the Internet. The March 18 meeting will decide on establishing subcommittees or working groups to focus on specific geographic regions or technologies. Ambassador David A. Gross, U.S. Coordinator for Communications and Information Policy will take part.

Members of the public may attend these meetings up to the seating capacity of the room. While the meeting is open to the public, admittance to the Department of State building is only by means of a pre-arranged clearance list. In order to be placed on the pre-clearance list, please provide your name, title, company, social security number, date of birth, and citizenship to John W. Finn at finnjw@state.gov no later than 5 p.m. on Tuesday, March 16, 2004. All attendees for this meeting must use the 23rd Street entrance. One of the following valid ID's will be required for admittance: any U.S. driver's license with photo, a passport, or a U.S. government agency ID. Non-U.S. government attendees must be escorted by Department of State personnel at all times when in the building.

For further information, please contact John W. Finn, Executive Secretary of the Committee, at 202-647-5306 or by e-mail at finnjw@state.gov.

Dated: March 8, 2004.
John W. Finn,
Executive Secretary, ACICIP, Department of State.

[FR Doc. 04-5650 Filed 3-10-04; 8:45 am]

BILLING CODE 4710-07-P